DEPARTMENT OF THE INTERIOR

National Park Service

AGENCY: National Park Service.

ACTION: Notice of availability of the draft wilderness and backcountry management plan/draft environmental impact statement, Isle Royale National Park, Michigan.

SUMMARY: Pursuant to the National Environmental Policy Act of 1969, 42 U.S.C. 4332(2)(C), the National Park Service (NPS) announces the availability of a draft wilderness and backcountry management plan/environmental impact statement (WBMP EIS) for Isle Royale National Park (ISRO), Michigan.

DATES: There will be a 60-day public review period for comments on this document. Comments on the draft WBMP EIS must be received no later than 60 days after the Environmental Protection Agency publishes its notice of availability in the Federal Register.

ADDRESSES: Copies of the draft WBMP EIS or a summary document are available by request by writing to Phyllis Green, Superintendent, Attn: WBMP, Isle Royale National Park, 800 East Lakeshore Drive, Houghton, Michigan 49931, or by e-mail message at isro_wbmp@nps.gov. The document can be picked up at the park's headquarters at the same address, or viewed over the Internet at the park's Web site at http://www.nps.gov/isro/home.htm. Copies of the draft or summary document will be sent to over 500 interested parties, as well as to public libraries throughout Michigan, Minnesota, and Wisconsin.

FOR FURTHER INFORMATION CONTACT: Jean Battle, Chief of Resource Management, Isle Royale National Park, 800 East Lakeshore Drive, Houghton, Michigan 49931, 906-487-9080 extension 34 or jean_battle@nps.gov.

SUPPLEMENTARY INFORMATION: The NPS management policies require the superintendent of each park containing wilderness resources will develop and maintain a wilderness management plan to guide the preservation, management, and use of these resources. The IRSO's wilderness was designated in 1976, and the park does not have an approved wilderness management plan. The purpose of this draft WBMP EIS is to satisfy that requirement and bring ISRO into compliance with NPS policies. This draft WBMP EIS does not propose any changes in wilderness boundaries within ISRO, but it does propose formalizing and implementing some changes in how that wilderness is managed. The draft plan proposes several alternatives for management actions that would achieve the goals of wilderness management in the park consistent with The Wilderness Act and NPS policies. The primary issues being addressed in the plan that may result in management changes include: managing permitting for overnight camping and boating in the park, managing organized day tours in the park, managing campfires, the maintenance or removal of fire towers, the maintenance or removal of picnic tables in wilderness campgrounds, the use of treated lumber for trail maintenance, and the application of the minimum tool decision tree to determining the appropriate tools for maintenance, research, and other management practices within the park's wilderness.

Persons wishing to comment may do so by any one of several methods. They may mail comments to the Superintendent, Attn: WBMP, Isle Royale National Park, 800 East Lakeshore Drive, Houghton, Michigan 49931, or call the Chief of Resource Management at 906-487-9080 extension 34. They may comment via e-mail to isro_wbmp@nps.gov (include name and return address in the e-mail message). Finally, they may hand-deliver comments to park headquarters at 800 East Lakeshore Drive, Houghton, Michigan.

The NPS practice is to make comments, including names and home addresses of respondents, available for public review during regular business hours. Individual respondents may request we withhold their home address from the record, which we will honor to the extent allowable by law. There also may be circumstances in which we would withhold from the record a respondent's identity, as allowable by law. If you wish us to withhold your name and/or address, you must state this prominently at the beginning of your comment. However, we will not consider anonymous comments.

We will make all submissions from organizations or businesses, and from individuals identify themselves as representatives or officials of organizations or businesses, available for public inspection in their entirety.

Dated: November 5, 2004.
Ernest Quintana,
Regional Director, Midwest Region.

[FR Doc. 04-28287 Filed 12-27-04; 8:45 am]

BILLING CODE 4312-92-P